GENERAL SERVICES ADMINISTRATION

41 CFR Part 102-36

[FMR Amendment 2006-06; FMR Case 2006-102-4

RIN 3090-AI27

Federal Management Regulation; Disposition of Excess Personal Property

AGENCY: Office of Governmentwide Policy, General Services Administration (GSA).

ACTION: Final rule.

SUMMARY: The General Services Administration is amending the Federal Management Regulation (FMR) by correcting references to outdated or superceded provisions of law or regulation; correcting text to be in conformance with revised laws, regulation, or Federal agency responsibilities; and clarifying text where the intended meaning could be updated or made clearer.

DATES: Effective Date: October 12, 2006.

FOR FURTHER INFORMATION CONTACT: The Regulatory Secretariat, Room 4035, GS Building, Washington, DC 20405, (202) 501-4755, for information pertaining to status or publication schedules. For clarification of content, contact Mr. Robert Holcombe, Office of Governmentwide Policy, Office of Travel, Transportation, and Asset Management (MT), at (202) 501-3828, or e-mail at Robert.Holcombe@gsa.gov. Please cite Amendment 2006-06, FMR case 2006-102-4.

SUPPLEMENTARY INFORMATION:

A. Background

GSA is in the process of revising the Federal Property Management Regulations (FPMR) and transferring most of the content into a new, streamlined Federal Management Regulation (FMR). Consequently, FMR part 102-36 (41 CFR part 102-36) contains references to FPMR sections that no longer exist. Also, Public Law 107-217 revised and restated certain provisions of the Federal Property and Administrative Services Act of 1949 (Property Act). For example, the Property Act provisions found at 40 U.S.C. 471-514 will now generally be found at 40 U.S.C. 101-705. This final rule updates the title 40 U.S.C. citations to reflect the changes made by Public Law 107-217. Finally, updating or clarifying revisions were made where the revisions are seen as administrative or clerical in nature. This includes a revised definition of “Foreign excess personal property.”

B. Executive Order 12866

The General Services Administration (GSA) has determined that this final rule is not a significant regulatory action for the purposes of Executive Order 12866.

C. Regulatory Flexibility Act

This final rule is not required to be published in the Federal Register for comment. Therefore, the Regulatory Flexibility Act does not apply.

D. Paperwork Reduction Act

The Paperwork Reduction Act does not apply because the changes to the FMR do not impose information collection requirements that require the approval of the Office of Management and Budget under 44 U.S.C. 3501, et seq.

E. Small Business Regulatory Enforcement Fairness Act

This final rule is exempt from Congressional review under 5 U.S.C. 801 since it relates solely to agency management and personnel.

List of Subjects in 41 CFR Part 102-36

Government property management, Surplus government property.

Dated: April 14, 2006.
David L. Bibb,
Acting Administrator of General Services.

For the reasons set forth in the preamble, GSA amends 41 CFR part 102-36 as set forth below:

PART 102-36—DISPOSITION OF EXCESS PERSONAL PROPERTY

1. The authority citation for 41 CFR part 102-36 is revised to read as follows:

Authority: 40 U.S.C. 121(c).

2. Revise § 102-36.5 to read as follows:

§ 102-36.5 What is the governing authority for this part?

Section 121(c) of title 40, United States Code, authorizes the Administrator of General Services to prescribe regulations as he deems necessary to carry out his functions under subtitle I of title 40. Section 521 of title 40 authorizes the General Services Administration (GSA) to prescribe policies to promote the maximum use of excess Government personal property by executive agencies.

§ 102-36.10 [Amended]

3. Amend § 102-36.10 by removing “the Commonwealth of Puerto Rico, and the Commonwealth of” and adding “Puerto Rico, the Federated States of Micronesia, the Marshall Islands, Palau, and” in its place.

§ 102-36.35 [Amended]

4. Amend § 102-36.35 by removing from paragraph (b) “The Property Act” and adding “Title 40 of the United States Code” in its place; and by removing from paragraph (c) “part 101-45 of this title” and adding “part 102-38 of this chapter” in its place.

5. Amend § 102-36.40 by—

a. Removing from the definition “Exchange/sale property,” “means” and adding “is” in its place; and removing “part 101-46 of this title” and adding “part 102-39 of this chapter” in its place;

b. Removing from the definition “Foreign excess personal property,” “the Commonwealth of Puerto Rico, and the Commonwealth of” and adding “Puerto Rico, the Federated States of Micronesia, the Marshall Islands, Palau, and” in its place;

c. Removing the definitions “Federal Disposal System (FEDS)” and “Property Act”; and

d. Adding the definition “GSAXcess®” to read as follows:

§ 102-36.40 What definitions apply to this part?

* * * * *

GSAXcess® is GSA’s website for reporting, searching and selecting excess personal property. For information on using GSAXcess®, access http://www.gsaxcess.gov.

* * * * *

§ 102-36.50 [Amended]

6. Amend § 102-36.50 by removing “the Property Act” and adding “title 40 of the United States Code” in its place.

§ 102-36.55 [Amended]

7. Amend § 102-36.55 by removing from paragraph (e) “FEDS” and adding “GSAXcess®” in its place.

§ 102-36.65 [Amended]

8. Amend § 102-36.65 by removing “FEDS” and adding “GSAXcess®” in its place.

9. Amend § 102-36.90 by revising paragraphs (a) and (c) to read as follows:

§ 102-36.90 How do we find out what personal property is available as excess?

* * * * *

(a) Check GSAXcess®, GSA’s website for searching and selecting excess personal property. For information on GSAXcess®, access http://www.gsaxcess.gov.

* * * * *

(c) Check any available holding agency websites.

* * * * *

§ 102-36.125 [Amended]

10. Amend § 102-36.125 by removing from paragraph (a) “(FEDS)” and adding “(GSAXcess®)” in its place.

§ 102-36.190 [Amended]

11. Amend § 102-36.190 by removing from paragraph (d) “part 101-44 of this title” and adding “part 102-37 of this chapter” in its place.

§ 102-36.225 [Amended]

12. Amend § 102-36.225 by removing “part 101-47 of this title” and adding “part 102-75 of this chapter” in its place.

§ 102-36.230 [Amended]

13. Amend § 102-36.230 by removing from paragraph (a) “the Federal Disposal System (FEDS)” and adding “GSAXcess®” in its place.

§ 102-36.295 [Amended]

14. Amend § 102-36.295 by removing the last sentence.

§ 102-36.300 [Amended]

15. Amend § 102-36.300 by—

a. Removing from paragraph (a) “Personal Property Management Policy Division (MTP)” and adding “Office of Travel, Transportation, and Asset Management (MT)” in its place; and

b. Removing from paragraph (a) “the Commonwealth of Puerto Rico, and the Commonwealth of” and adding “Puerto Rico, the Federated States of Micronesia, the Marshall Islands, Palau, and” in its place.

§ 102-36.320 [Amended]

16. Amend § 102-36.320, by removing “part 101-44 of this title” each time it appears and adding “part 102-37 of this chapter” in its place.

§ 102-36.325 [Amended]

17. Amend § 102-36.325 by removing “part 101-45 of this title” and adding “part 102-38 of this chapter” in its place.

§ 102-36.340 [Amended]

18. Amend § 102-36.340 by—

a. Removing from paragraph (a)(4) the first “DOD” and adding “the Department of Defense (DOD)” in its place;

b. Removing from paragraph (b) “dataplate to GSA Property Management Branch, San Francisco, California” and adding “data plate to GSA Property Management Branch (9FBP), San Francisco, CA 94102-3434” in its place;

c. Removing from paragraph (c) “Aircraft Management Policy Division (MTA)” and adding “Office of Travel, Transportation, and Asset Management (MT)” in its place; and

d. Removing from paragraph (c) “FAIRS see part 101-37 of this title” and adding “FAIRS, see part 102-33 of this chapter” in its place.

§ 102-36.345 [Amended]

19. Amend § 102-36.345 by removing “part 101-37, subpart 101-37.6, of this title” and adding “part 102-33, subpart D, of this chapter” in its place.

§ 102-36.360 [Amended]

20. Amend § 102-36.360 by removing “part 101-37 of this title” and adding “part 102-33 of this chapter” in its place.

§ 102-36.365 [Amended]

21. Amend § 102-36.365 by removing “Public Law 105-27 (111 Stat. 244)” and adding “40 U.S.C. 555” in its place.

§ 102-36.370 [Amended]

22. Amend § 102-36.370 by removing “Disaster Relief Act of 1974 (Public Law 93-288 (42 U.S.C. 5121) and Executive Orders 11795 (3 CFR, 1971-1975 Comp., p. 887) and” and adding “Robert T. Stafford Disaster Relief and Emergency Assistance Act (42 U.S.C. 5121-5206) and Executive Order” in its place.

§ 102-36.380 [Amended]

23. Amend § 102-36.380 by removing “title IV of the Property Act” and adding “chapter 7 of title 40 of the United States Code” in its place.

§ 102-36.390 [Amended]

24. Amend § 102-36.390 by removing from paragraph (e) “sec. 402(a) of the Property Act” and adding “40 U.S.C. 527” in its place.

§ 102-36.400 [Amended]

25. Amend § 102-36.400 by removing “Sections 202 and 203 of the Property Act” and adding “40 U.S.C. 521-529, 549, and 551” in its place; and by removing “receiving agency” and adding “Federal agency, State agency, or donee receiving the property” in its place.

§ 102-36.405 [Amended]

26. Amend § 102-36.405 by removing “part 101-49 of this title” and adding “part 102-42 of this chapter” in its place.

27. Revise § 102-36.420 to read as follows:

§ 102-36.420 How do we dispose of gifts from foreign governments or entities?

Report foreign gifts on a SF 120 to GSA, Property Management Division (FBP), Washington, DC 20406, for possible transfer, donation or sale in accordance with the provisions of part 102-42 of this chapter.

§ 102-36.440 [Amended]

28. Amend § 102-36.440 by removing “North Capitol and H Streets, NW” and adding “732 North Capitol Street, NW” in its place.

§ 102-36.465 [Amended]

29. Amend § 102-36.465 by removing “part 101-46 of this title” and adding “part 102-39 of this chapter” in its place.

§ 102-36.470 [Amended]

30. Amend § 102-36.470, by removing from paragraph (b) “section 203(i) of the Property Act” and adding “40 U.S.C. 548” in its place; and by removing from paragraph (c) “and” and adding “or” in its place.

[FR Doc. E6-15042 Filed 9-11-06; 8:45 am]

BILLING CODE 6820-14-S